DEPARTMENT OF THE TREASURY

[General Counsel Designation No. 250]

Appointment of Members of the General Counsel Panel of the Legal Division Performance Review Board

Under the authority granted to me as General Counsel of the Department of the Treasury by 31 U.S.C. 301 and 26 U.S.C. 7801, Treasury Department Order No. 101-5 (Revised), and pursuant to the Civil Service Reform Act, I hereby appoint the following individuals to the General Counsel Panel of the Legal Division Performance Review Board;

Joan E. Donoghue, Deputy General Counsel, who shall serve as Chairperson;

Thomas M. McGivern, Counselor to the General Counsel;

Kenneth R. Schmalzbach, Assistant General Counsel (General Law and Ethics);

Roberta K. McInerney, Assistant General Counsel (Banking and Finance);

Stephen J. McHale, Assistant General Counsel (Enforcement);

Russell L. Munk, Assistant General Counsel (International Affairs);

Rochelle F. Granat, Deputy Assistant General Counsel (General Law and Ethics);

Francine J. Kerner, Deputy Assistant General Counsel (Enforcement);

Marilyn L. Muench, Deputy Assistant General Counsel (International Affairs);

Eleni Constantine, Deputy Assistant General Counsel (Banking and Finance);

John J. Manfreda, Chief Counsel, Bureau of Alcohol, Tobacco & Firearms;

Alfonso Robles, Chief Counsel, United States Customs Service;

Walter Eccard, Chief Counsel, Bureau of Public Debt.

Dated: May 10, 2000.
Neal S. Wolin,
General Counsel.

[FR Doc. 00-13001 Filed 5-23-00; 8:45 am]

BILLING CODE 4810-25-M